DEFENSE NUCLEAR FACILITIES SAFETY BOARD

Notice of Meetings; Sunshine Act

Pursuant to the provisions of the “Government in the Sunshine Act” (5 U.S.C. 552b), notice is hereby given of the Defense Nuclear Facilities Safety Board's (Board) public hearing and meeting described below. The Board will conduct a public hearing and meeting pursuant to 42 U.S.C. 2286b and invites any interested persons or groups to present any comments, technical information, or data concerning safety issues related to the matters to be considered.

TIME AND DATE OF MEETING: 9 a.m., July 19, 2006.

PLACE: Defense Nuclear Facilities Safety Board, Public Hearing Room, 625 Indiana Avenue, NW., Suite 300, Washington, DC 20004-2001. Additionally, as a part of the Board's E-Government initiative, the meeting will be presented live through Internet video streaming. A link to the presentation will be available on the Board's Web site (http://www.dnfsb.gov).

Status: Open. While the Government in the Sunshine Act does not require that the scheduled discussion be conducted in a meeting, the Board has determined that an open meeting in this specific case furthers the public interests underlying both the Sunshine Act and the Board's enabling legislation.

Matters to be Considered: This public hearing and meeting is the second in a series concerning the Department of Energy's (DOE) and National Nuclear Security Administration's (NNSA) incorporation of safety into the design and construction of new and existing DOE defense nuclear facilities. The Board is responsible, pursuant to its statutory charter, to review and evaluate the content and implementation of standards relating to the design and construction of such facilities. The Board has previously observed the need for improvement in the incorporation of safety early in the design of certain new defense nuclear facilities. These observations led to the initial public hearing and meeting on safety and design, which the Board convened on December 7, 2005. At that hearing, the Board explored DOE's safety policies, expectations and processes for integrating safety early into the design and construction of new facilities and the modification of existing facilities. The Board heard testimony from DOE and NNSA officials concerning recognition of deficiencies in this area, and DOE's and NNSA's plans and commitments to revise its relevant Orders and Manuals to ensure integration of safety early in the design and construction process. This second hearing on safety in design will focus on actions taken by DOE and NNSA to improve incorporation of safety early in the design process, and will examine progress concerning relevant commitments made prior to and at the first hearing. The Board again expects to hear presentations from both DOE and NNSA senior management officials concerning integration of safety into design. The Board may also collect any other information relevant to health or safety of the workers and the public, with respect to safety in design, that may warrant Board action. The public hearing portion of this proceeding is authorized by 42 U.S.C. 2286b.

FOR FURTHER INFORMATION CONTACT: Brian Grosner, Deputy General Manager, Defense Nuclear Facilities Safety Board, 625 Indiana Avenue, NW., Suite 700, Washington, DC 20004-2901, (800) 788-4016. This is a toll-free number.

SUPPLEMENTARY INFORMATION: Requests to speak at the hearing may be submitted in writing or by telephone. The Board asks that commentators describe the nature and scope of their oral presentation. Those who contact the Board prior to close of business on July 18, 2006, will be scheduled for time slots, beginning at approximately 12:30 p.m. The Board will post a schedule for those speakers who have contacted the Board before the hearing. The posting will be made at the entrance to the Public Hearing Room at the start the 9 a.m. hearing and meeting. Anyone who wishes to comment or provide technical information or data may do so in writing, either in lieu of, or in addition to, making an oral presentation. The Board Members may question presenters to the extent deemed appropriate. Documents will be accepted at the meeting or may be sent to the Defense Nuclear Facilities Safety Board's Washington, DC office. The Board will hold the record open until August 19, 2006, for the receipt of additional materials. A transcript of the meeting will be made available by the Board for inspection by the public at the Defense Nuclear Facilities Safety Board's Washington office and at DOE's public reading room at the DOE Federal Building, 1000 Independence Avenue, SW., Washington, DC 20585. The Board specifically reserves its right to further schedule and otherwise regulate the course of the meeting and hearing, to recess, reconvene, postpone, or adjourn the meeting and hearing, conduct further reviews, and otherwise exercise its power under the Atomic Energy Act of 1954, as amended.

Dated: June 7, 2006.
A.J. Eggenberger,
Chairman.

[FR Doc. 06-5310 Filed 6-7-06; 1:36 pm]

BILLING CODE 3670-01-P